NUCLEAR REGULATORY COMMISSION

[NRC-2014-0011]

Report to Congress on Abnormal Occurrences; Fiscal Year 2013; Dissemination of Information

AGENCY: Nuclear Regulatory Commission.

ACTION: Notice of availability.

SUMMARY: The U.S. Nuclear Regulatory Commission (NRC) is making available NUREG-0090, Volume 36, “Report to Congress on Abnormal Occurrences: Fiscal Year 2013.” The report describes those events that the NRC or an Agreement State identified as abnormal occurrences (AOs) during fiscal year (FY) 2013, based on the criteria defined in the report's Appendix A, “Abnormal Occurrence Criteria and Guidelines for Other Events of Interest.” The report describes 13 events at Agreement State-licensed facilities. There were no events at NRC-licensed facilities.

DATES: NUREG-0090, Volume 36, is available June 24, 2014.

FOR FURTHER INFORMATION CONTACT: Gladys Figueroa, Office of Nuclear Regulatory Research, U.S. Nuclear Regulatory Commission, Washington, DC 20555-0001, by telephone: 301-252-7545 or by email: Gladys.Figueroa@nrc.gov.

SUPPLEMENTARY INFORMATION: Section 208 of the Energy Reorganization Act of 1974, as amended (Public Law 93-438), defines an “abnormal occurrence” as an unscheduled incident or event that the NRC determines to be significant from the standpoint of public health or safety. The report describes those events that the NRC or an Agreement State identified as AOs during FY 2013, based on the criteria defined in this report's Appendix A, “Abnormal Occurrence Criteria and Guidelines for Other Events of Interest.” Agreement States are the 37 States that currently have entered into formal agreements with the NRC pursuant to Section 274 of the Atomic Energy Act (AEA) to regulate certain quantities of AEA-licensed material at facilities located within their borders.

The report describes 13 events at Agreement State-licensed facilities. Two Agreement State-licensee events involved radiation exposure to an embryo/fetus, and the other 11 Agreement State-licensee events were medical events as defined in Title 10 of the Code of Federal Regulations Part 35 and occurred at medical institutions. During this reporting period, there were no events at NRC-licensed facilities. The report also discusses other events of interest that do not meet the AO criteria, but have been determined by the Commission to be included in the report.

The Federal Reports Elimination and Sunset Act of 1995 (Pub. L. 104-68) requires that AOs be reported to Congress annually, and that the Commission provide as wide dissemination to the public of the information in the report as possible. The full report, NUREG-0090, Volume 36, “Report to Congress on Abnormal Occurrences: Fiscal Year 2013,” is available electronically at the NRC's Web site at http://www.nrc.gov/reading-rm/doc-collections/nuregs/staff/ and through the NRC's Agencywide Documents Access and Management System (ADAMS) at ADAMS Accession No. ML14150A073.

Dated at Rockville, Maryland, this 18th day of June, 2014.
For the Nuclear Regulatory Commission.
Annette L. Vietti-Cook,
Secretary of the Commission.

[FR Doc. 2014-14720 Filed 6-23-14; 8:45 am]

BILLING CODE 7590-01-P